Title 3—

The President

Proclamation 9875 of May 1, 2019

National Mental Health Awareness Month, 2019

By the President of the United States of America

A Proclamation

During National Mental Health Awareness Month, we recognize the vital role mental health plays in the well-being of individuals and our Nation. We also reaffirm our commitment to facilitating research and education, dispelling stigma around mental illnesses, and reassuring every individual suffering from mental illnesses that they are not alone. My Administration has made mental and behavioral health a primary focus of our public health efforts, particularly opioid addiction and serious mental illness. This includes connecting agencies from across the Government to address issues ranging from housing to workforce opportunity, bringing a whole person approach to bear upon this issue.

Mental illnesses can impair mental health in many ways, through a wide range of conditions that affect mood, thinking, and behavior. While we have made great strides in addressing mental illnesses, millions of Americans still grapple with various forms of it. Nearly 47 million American adults are living with a mental illness. Twenty-four percent of these individuals are living with a serious mental illness, and approximately 3.1 million adults have both a mental illness and a substance use disorder. Additionally, the effects of mental illnesses on our country's youth and young adults is tragically becoming more apparent. In just 1 year, rates of major depression, reports of suicidal thoughts and attempts, and instances of serious mental illness have all increased for our youth and young adults, with more than one in 10 young adults seriously considering suicide in 2017.

My Administration is continuing our efforts to improve mental health by tackling mental illness and supplying people who are suffering with the resources they need. We are working to expand our partnership with States to help individuals with the most serious mental illnesses. My fiscal year 2020 budget request to the Congress maintains funding for the Community Mental Health Services Block Grants, which provide money to every State for services to adults with serious mental illness and children with serious emotional disturbances. States are using this funding to identify mental illnesses at early stages in order to reduce the likelihood of the types of long-term disability that people with serious mental illnesses often experience.

Last fall, I signed into law H.R. 6, the “SUPPORT for Patients and Communities Act.” This bipartisan law expands access to inpatient treatment and other evidence-based options, for those with mental illness. Additionally, last November, the Department of Health and Human Services announced an opportunity for States to use Medicaid demonstration authority to support short-term inpatient treatment options for adults with serious mental illnesses and children with serious emotional disturbances. My Administration has approved applications from more than 20 States to expand access to treatment for substance use disorder through these inpatient facilities. Further, my Administration has provided unprecedented levels of training and education to healthcare practitioners across the country regarding mental health, mental illnesses, and substance use issues. This training is designed to enable Federal efforts to accommodate the varying needs of communities across the country.

My Administration is also committed to meeting the mental health needs of our brave service members and veterans. Tragically, an average of 20 service members and veterans die by suicide each day. Of those, nearly 70 percent were not engaged with the Department of Veterans Affairs for their healthcare. To help address this issue, I signed an Executive Order that launched the President's Roadmap to Empower Veterans and End a National Tragedy of Suicide (PREVENTS) Initiative and establishes a task force that includes the Secretaries of Veterans Affairs, Defense, Health and Human Services, and Homeland Security charged with developing a comprehensive public health roadmap to help end the national tragedy of veteran suicide. This plan will include a national research strategy for engaging public- and private-sector stakeholders to better understand the underlying factors of suicide and means to enhance early identification. Instead of a passive system that activates when veterans in need reach out, it will propose grants to empower veteran communities to create national and local support networks that actively engage with all veterans.

This month, and throughout the year, let us work together to understand the importance of mental health. Let us recommit to making every effort to provide Americans suffering from mental illnesses with the care they need. Mental health is not just an individual issue, but a national issue. The mental health of our citizens is critical to our Nation's prosperity. Together, by focusing on and understanding these issues, we can reduce the effects of mental illnesses on our communities and enable all Americans to live healthy and productive lives.

NOW, THEREFORE, I, DONALD J. TRUMP, President of the United States of America, by virtue of the authority vested in me by the Constitution and the laws of the United States do hereby proclaim May 2019 as National Mental Health Awareness Month. I call upon all Americans to support citizens suffering from mental illnesses, raise awareness of mental health conditions through appropriate programs and activities, and commit our Nation to innovative prevention, diagnosis, and treatment.

IN WITNESS WHEREOF, I have hereunto set my hand this first day of May, in the year of our Lord two thousand nineteen, and of the Independence of the United States of America the two hundred and forty-third.

[FR Doc. 2019-09401

Filed 5-3-19; 11:15 am]

Billing code 3295-F9-P